NATIONAL AERONAUTICS AND SPACE ADMINISTRATION

[Notice: (18-065)]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee (PAC). This Committee functions in an advisory capacity to the Director, Planetary Science Division, in the NASA Science Mission Directorate. The meeting will be held for the purpose of soliciting, from the planetary science community and other persons, scientific and technical information relevant to program planning.

DATES: Wednesday, September 26, 2018, 1:00 p.m. to 5:00 p.m., Eastern Time.

ADDRESSES: This meeting will be virtual and will be available telephonically and by WebEx. You must use a touch-tone phone to participate in this meeting. Any interested person may dial the USA toll free conference call number 1-800-779-9966 or the toll number 1-517-645-6359, passcode 5255996. The WebEx link is https://nasa.webex.com/; the meeting number is 999 932 505, password is PAC@Sept26.

FOR FURTHER INFORMATION CONTACT: Ms. KarShelia Henderson, Science Mission Directorate, NASA Headquarters, Washington, DC 20546, (202) 358-2355, fax (202) 358-2779, or khenderson@nasa.gov.

The agenda for the meeting includes the following topics:

—Planetary Science Division Update

—Planetary Science Division Research and Analysis Program Update

It is imperative that the meeting be held on these dates to accommodate the scheduling priorities of the key participants.

Patricia Rausch,
Advisory Committee Management Officer, National Aeronautics and Space Administration.

[FR Doc. 2018-18629 Filed 8-28-18; 8:45 am]

BILLING CODE 7510-13-P